OVERSEAS PRlVATE INVESTMENT CORPORATION

March 20, 2008 Public Hearing

OPIC's Sunshine Act notice of its Public Hearing in Conjunction with each Board meeting was published in the Federal Register (Volume 73, Number 43, Page 11682) on March 4, 2008. No requests were received to provide testimony or submit written statements for the record; therefore, OPIC's public hearing scheduled for 2 p.m., March 20, 2008 in conjunction with OPIC's March 21, 2008 Board of Directors meeting has been cancelled.

Contact Person for Information: Information on the hearing cancellation may be obtained from Connie M. Downs at (202) 336-8438, via facsimile at (202) 2180136, or via e-mail at Connie.Downs@opic.gov.

Dated: March 14, 2008.
Connie M. Downs,
OPIC Corporate Secretary.

[FR Doc. E8-5486 Filed 3-18-08; 8:45 am]

BILLING CODE 3210-01-M